DEPARTMENT OF LABOR

Veterans' Employment and Training Service

Solicitation of Nominations for Appointment to the Advisory Committee on Veterans' Employment, Training, and Employer Outreach (ACVETEO)

AGENCY: Veterans' Employment and Training Service (VETS), Department of Labor (DOL).

ACTION: Solicitation of nominations.

SUMMARY: Veterans' Employment and Training Service is seeking nominations of qualified candidates to be considered for appointment as members of the Advisory Committee on Veterans' Employment, Training, and Employer Outreach (ACVETEO, or the Committee). The Secretary of Labor will appoint at least 12, but no more than 16, members who serve as Special Government Employees. Members will consist of: (1) Seven individuals, one each from among the representatives nominated by (a) the Society for Human Resource Management, (b) the Business Roundtable, (c) National Association of State Workforce Agencies, (d) the United States Chamber of Commerce, (e) the National Federation of Independent Business, (f) a nationally recognized labor union or organization and (g) the National Governors Association; (2) no more than five representatives nominated by Veterans Service Organizations that have a national employment program; and (3) no more than five individuals who are recognized authorities in the fields of business, employment, training, rehabilitation, or labor and who are not employees of DOL.

DATES: Nominations for membership on the Committee must be received no later than 11:59 p.m. EST on October 31, 2021. Packages received after this time will not be considered for the current membership cycle.

ADDRESSES: All nomination packages must be sent by email to the Designated Federal Official to ACVETEO@dol.gov subject line “2021 ACVETEO Nomination”.

FOR FURTHER INFORMATION CONTACT: Mr. Gregory Green, Designated Federal Official for the ACVETEO, ACVETEO@dol.gov, (202) 693-4734. Additional information regarding the Committee, including its charter, current membership list, annual reports and meeting minutes, may be found at https://www.dol.gov/agencies/vets/about/advisorycommittee.

SUPPLEMENTARY INFORMATION: The ACVETEO is a Congressionally mandated advisory committee authorized under Title 38, U.S. Code, Section 4110 and subject to the Federal Advisory Committee Act, 5 U.S.C. app. 2, as amended. The ACVETEO is responsible for: Assessing employment and training needs of veterans; determining the extent to which the programs and activities of the U.S. Department of Labor meet these needs; assisting to conduct outreach to employers seeking to hire veterans; making recommendations to the Secretary, through the Assistant Secretary for Veterans' Employment and Training Service, with respect to outreach activities and employment and training needs of veterans; and carrying out such other activities necessary to make required reports and recommendations. DOL is soliciting nominations for members to serve on the Committee. As required by statute, the members of the Committee are appointed by the Secretary from the general public. DOL seeks nominees with the following experience:

(1) Diversity in professional and personal qualifications;

(2) Experience in military service;

(3) Current work with veterans;

(4) Veterans disability subject matter expertise;

(5) Experience working in large and complex organizations;

(6) Experience in transition assistance;

(7) Experience in the protection of employment and reemployment rights;

(8) Experience in education, skills training, integration into the workforce and outreach;

(9) Understanding of licensing and credentialing issues; and/or

(10) Experience in military/veteran apprenticeship programs.

Requirements for Nomination Submission: Nominations should be formatted in PDF and saved as one document (one nomination per nominator). The nomination package should be submitted in the following order and include:

(1) Letter of nomination that clearly states the name and affiliation of the nominee, the basis for the nomination (i.e., specific attributes, including military service, if applicable, that qualifies the nominee for service in this capacity);

(2) Statement from the nominee indicating willingness to regularly attend and participate in Committee meetings;

(3) Nominee's contact information, including name, mailing address, telephone number(s), and email address;

(4) Nominee's curriculum vitae or resume;

(5) Summary of the nominee's experience and qualifications relative to the experience listed above;

(6) Nominee biography;

(7) Provide a summary of the Veterans Service Organization's (VSO) national employment program: To be considered a national employment program, the VSO must offer nationwide access to employment resources for veterans seeking employment.

(8) Recognition as a VSO accredited by the Department of Veterans Affairs through the Office of the General Counsel, listed on this site: https://www.va.gov/ogc/apps/accreditation/index.asp.

(9) Statement that the nominee has no apparent conflicts of interest that would preclude membership.

(10) An affirmative statement that the nominee is not a federally registered lobbyist, and that the nominee understands that, if appointed, the nominee will not be allowed to continue to serve as an Advisory Committee member if the nominee becomes a federally registered lobbyist.

Individuals selected for appointment to the Committee will be reimbursed for per diem and travel for attending in-person Committee meetings. The Department makes every effort to ensure that the membership of its federal advisory committees is fairly balanced in terms of points of view represented. Every effort is made to ensure that a broad representation of geographic areas, gender, racial and ethnic minority groups, and the disabled are given consideration for membership. Appointment to this Committee shall be made without discrimination because of a person's race, color, religion, sex (including gender identity, transgender status, sexual orientation, and pregnancy), national origin, age, disability, or genetic information. An ethics review is conducted for each selected nominee.

Signed at Washington, DC, on August 26, 2021.
James Rodriquez,
Acting Assistant Secretary, Veterans' Employment and Training.

[FR Doc. 2021-19066 Filed 9-2-21; 8:45 am]

BILLING CODE 4510-79-P